DEPARTMENT OF THE TREASURY

Office of Foreign Assets Control

Supplemental Identification Information for One Individual Designated Pursuant to Executive Order 13573

AGENCY: Office of Foreign Assets Control, Treasury.

ACTION: Notice.

SUMMARY: The Treasury Department's Office of Foreign Assets Control (“OFAC”) is publishing supplemental information for the name of one individual whose property and interests in property are blocked pursuant to Executive Order 13573 of May 18, 2011, “Blocking Property of Senior Officials of the Government of Syria.”

DATES: The publishing of updated information by the Director of OFAC of the individual in this notice is effective on July 11, 2013.

FOR FURTHER INFORMATION CONTACT: Assistant Director, Sanctions Compliance & Evaluation, Office of Foreign Assets Control, Department of the Treasury, 1500 Pennsylvania Avenue NW. (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On July 18, 2012, the Director of OFAC, in consultation with the Department of State, designated Adib MAYALEH pursuant to one or more of the criteria set forth in subsection 1(b) of Executive Order 13573 of May 18, 2011, “Blocking Property of Senior Officials of the Government of Syria.” The notice of this action was published in the Federal Register on July 25, 2012, at 77 FR 43658. On July 11, 2013, the Director of OFAC supplemented the identification information for this individual.

The listing for this individual on OFAC's list of Specially Designated Nationals and Blocked Persons, which includes the additional identification information, appears as follows:

Individual

1. MAYALEH, Adib (a.k.a. MIYAL, Andre; a.k.a. MAYALA, Adib); DOB 1955; POB Daraa, Syria; Governor of Central Bank of Syria (individual) [SYRIA].

Dated: July 11, 2013.
Adam Szubin,
Director, Office of Foreign Assets Control.

[FR Doc. 2013-17134 Filed 7-16-13; 8:45 am]

BILLING CODE 4810-AL-P